ENVIRONMENTAL PROTECTION AGENCY

40 CFR Part 300

[FRL-7797-5]

National Oil and Hazardous Substances Pollution Contingency Plan; National Priorities List

AGENCY: Environmental Protection Agency.

ACTION: Notice of deletion for the Hooker (102nd Street) Superfund Site from the National Priorities List.

SUMMARY: The Environmental Protection Agency (EPA) Region II Office announces the deletion of the Hooker (102nd Street) Superfund Site from the National Priorities List (NPL). The Hooker (102nd Street) Site is located in the City of Niagara Falls, Niagara County, New York. The NPL is Appendix B to the National Oil and Hazardous Substances Pollution Contingency Plan (NCP), 40 CFR part 300, which the EPA promulgated pursuant to section 105 of the Comprehensive Environmental Response, Compensation, and Liability Act of 1980 (CERCLA), as amended. The EPA and New York State, through the Department of Environmental Conservation (NYSDEC) have determined that all appropriate response actions have been implemented and that no further response actions, other than operation, maintenance, and monitoring, are required. In addition, the EPA and the NYSDEC have determined that the remedial action taken at the Hooker (102nd Street) Site is protective of public health, welfare, and the environment.

EFFECTIVE DATE: August 5, 2004.

FOR FURTHER INFORMATION CONTACT: Paul J. Olivo, Remedial Project Manager, U.S. Environmental Protection Agency, Region II, 290 Broadway, 20th Floor, New York, New York 10007-1866, (212) 637-4280.

SUPPLEMENTARY INFORMATION: To be deleted from the NPL is the Hooker (102nd Street) Superfund Site, City of Niagara Falls, Niagara County, New York.

A Notice of Intent-to-Delete for the Hooker (102nd Street) Site was published in the Federal Register on March 17, 2004 (69 FR 12604). The closing date for comments on the Notice of Intent-to-Delete was April 16, 2004. The EPA received no comments on the proposed deletion. The EPA identifies sites that appear to present a significant risk to public health, welfare, or the environment, and the EPA maintains the NPL as the list of those sites. As described in Sec. 300.425(e)(3) of the NCP, any site or portion thereof deleted from the NPL remains eligible for remedial actions in the unlikely event that conditions at the site warrant such action in the future. Deletion of a site from the NPL does not affect responsible party liability or impede agency efforts to recover costs associated with response efforts.

List of Subjects in 40 CFR Part 300

Environmental protection, Air pollution controls, Chemicals, Hazardous substances, Hazardous waste, Intergovernmental relations, Penalties, Reporting and recordkeeping requirements, Superfund, Water pollution control, Water supply.

Dated: July 6, 2004.
Walter Mugdan,
Acting Regional Administrator—Region II.

For the reasons set out in the preamble, part 300, chapter I of title 40 of the Code of Federal Regulations, is amended as follows:

PART 300—[AMENDED]

1. The authority citation for Part 300 continues to read as follows:

Authority: 42 U.S.C. 9601-9675; 33 U.S.C. 1321(c)(2); E.O. 12777, 56 FR 54757, 3 CFR., 1991 Comp., p. 351; E.O. 12580, 52 FR 2923, 3 CFR, 1987 Comp., p. 193.

Appendix B—[Amended]

2. Table 1 of Appendix B to Part 300 is amended by removing “Hooker (102nd Street), Niagara Falls, New York.”

[FR Doc. 04-17788 Filed 8-4-04; 8:45 am]

BILLING CODE 6560-50-P